DEPARTMENT OF VETERANS AFFAIRS

[OMB Control No. 2900-0108]

Agency Information Collection Activity Under OMB Review: Report of Income From Property or Business

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0108”.

FOR FURTHER INFORMATION CONTACT: Maribel Aponte, Office of Enterprise and Integration, Data Governance Analytics (008), 1717 H Street NW, Washington, DC 20006, (202) 266-4688 or email maribel.aponte@va.gov. Please refer to “OMB Control No. 2900-0108” in any correspondence.

SUPPLEMENTARY INFORMATION: Authority: 38 U.S.C. 5101, 1315, and 1506; 38 U.S.C. 1521, 1541, and 1542; 38 CFR 3.262 and 3.271

Title: Report of Income from Property or Business (VA Form 21P-4185).

OMB Control Number: 2900-0108.

Type of Review: Extension of a currently approved collection.

Abstract: VBA administers an integrated program of of benefits and services established by law for Veterans, service personnel, and their dependents, survivors, and/or beneficiaries. A claimant's eligibility for pension benefits or Parents' Dependency and Indemnity Compensation (DIC) is determined, in part, by countable income. VA Form 21P-4185 Report of Income from Property or Business, is used to report income and expenses that derived from rental property and/or the operation of a business. VBA uses this form to determine whether the claimant is eligible for VA benefits and, if eligibility exists, the proper rate of payment. In an effort to safeguard Veterans and their beneficiaries from financial exploitation, the instructions on VA Form 21P-4185 were amended to include information regarding VA-accredited attorneys or agents charging fees in connection with a proceeding before the Department of Veterans Affairs with respect to a claim.

An agency may not conduct or sponsor, and a person is not required to respond to a collection of information unless it displays a currently valid OMB control number. The Federal Register Notice with a 60-day comment period soliciting comments on this collection of information was published at 86 FR 30 on February 17, 2021, page 10004.

Affected Public: Individuals or Households.

Estimated Annual Burden: 3,500 hours.

Estimated Average Burden per Respondent: 30 minutes.

Frequency of Response: One time.

Estimated Number of Respondents: 7,000.

By direction of the Secretary.
Dorothy Glasgow,
VA PRA Clearance Officer (Alt), Office of Enterprise and Integration, Data Governance Analytics, Department of Veterans Affairs.

[FR Doc. 2021-08497 Filed 4-22-21; 8:45 am]

BILLING CODE 8320-01-P